COMMISSION ON CIVIL RIGHTS

Notice of Public Meeting of the Puerto Rico Advisory Committee, Revision of Virtual Meeting Platform and Additional Meeting Information

AGENCY: Commission on Civil Rights.

ACTION: Notice; revision of virtual meeting platform and additional meeting information.

SUMMARY: The Commission on Civil Rights is holding a meeting of the Puerto Rico Advisory Committee on Wednesday, May 18, 2022, at 1:00 p.m. Atlantic Time. This notice revises the virtual meeting platform and provides additional meeting information. The notice is in the Federal Register of Tuesday, May 3, 2022, in FR Doc. 2022-09479, in the third column of page 25185 and the first column of 26186.

FOR FURTHER INFORMATION CONTACT: Victoria Moreno, (434) 515-0204, vmoreno@usccr.gov.

Revision: Replace Webex virtual details with Zoom virtual details as follows:

• Zoom Link: https://tinyurl.com/bdd9muu7; password, if needed: USCCR-PR

• To join by phone only, dial: 1-551-285-1373; Meeting ID: 161 391 4837#

Additional Meeting Information: This meeting will be conducted in Spanish. English interpretation will be available at the same link.

Dated: May 11, 2022.
David Mussatt,
Supervisory Chief, Regional Programs Unit.

[FR Doc. 2022-10474 Filed 5-13-22; 8:45 am]

BILLING CODE P